DEPARTMENT OF COMMERCE

National Oceanic and Atmospheric Administration

[I.D. 040307A]

Mid-Atlantic Fishery Management Council; Public Meeting

AGENCY: National Marine Fisheries Service (NMFS), National Oceanic and Atmospheric Administration (NOAA), Commerce.

ACTION: Notice of a public meeting.

SUMMARY: The Mid-Atlantic Fishery Management Council's Surfclam/Ocean Quahog and Tilefish Committee and Tilefish Advisory Panel will hold a public meeting.

DATES: The meeting will be held on Thursday, April 26, 2007, from 9 a.m. to 4:30 p.m.

ADDRESSES: The meeting will be held at the Crowne Plaza Hotel, 2 Harmon Plaza, Secaucus, NJ; telephone: (201) 348-6900.

Council address: Mid-Atlantic Fishery Management Council; 300 S. New Street, Room 2115, Dover, DE 19904, telephone: (302) 674-2331.

FOR FURTHER INFORMATION CONTACT: Daniel T. Furlong, Executive Director, Mid-Atlantic Fishery Management Council; 300 S. New Street, Room 2115, Dover, DE 19904; telephone: (302) 674-2331, extension 19.

SUPPLEMENTARY INFORMATION: The purpose of this meeting is to review progress regarding Amendment 1 to the Tilefish Fishery Management Plan (FMP). It is expected that preferred management measures will be discussed and identified when possible. Amendment 1 to the Tilefish FMP addresses: (1) Possible implementation of an Individual Fishing Quota (IFQ) management system for tilefish [initial IFQ allocation, IFQ transferability of ownership, IFQ share accumulation, fees and cost recovery, establish flexibility to revise/adjust IFQ program, establish IFQ reporting requirements, other]; (2) Possible implementation of recreational bag-size limit; (3) Possible implementation of recreational permits and reporting requirements; (4) Potential improvements for monitoring of tilefish commercial landings; (5) Potential revisions to current tilefish reporting requirements (Interactive Voice Response); (6) Possible expansion of and revision to the list of management measures that can be adjusted via the framework adjustment process; (7) Potential revisions to essential fish habitat (EFH) designation; (8) Potential revisions to habitat areas of particular concern (HAPC) designation; (9) Consideration of possible measures to reduce gear impacts on EFH; and, (10) other issues to be considered in Amendment 1.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Committee's intent to take final action to address the emergency.

Special Accommodations

The meeting is physically accessible to people with disabilities. Requests for sign language interpretation or other auxiliary aids should be directed to M. Jan Bryan at the Mid-Atlantic Council Office, (302) 674-2331 extension 18, at least 5 days prior to the meeting date.

Dated: April 3, 2007.
Tracey L. Thompson,
Acting Director, Office of Sustainable Fisheries, National Marine Fisheries Service.

[FR Doc. E7-6428 Filed 4-5-07; 8:45 am]

BILLING CODE 3510-22-S